OFFICE OF PERSONNEL MANAGEMENT

President's Commission on White House Fellowships Advisory Committee: Closed Meeting

AGENCY: President's Commission on White House Fellowships, Office of Personnel Management.

ACTION: Notice of meeting.

SUMMARY: The President's Commission on White House Fellowships (PCWHF) was established by an executive order in 1964. The PCWHF is an advisory committee composed of Special Government Employees appointed by the President. The Advisory Committee meets in late May/early June to interview potential candidates for recommendation to become a White House Fellow. The meeting is closed to the public.

FOR FURTHER INFORMATION CONTACT: Rosemarie Vela, 712 Jackson Place NW, Washington, DC 20503, Phone: 202-395-4522.

SUPPLEMENTARY INFORMATION: Name of Committee: President's Commission on White House Fellowships Selection Weekend.

Date: May 30—June 2, 2024.

Time: 8:00 a.m.—5:30 p.m.

Place: St. Regis Hotel, 923 Black Lives Matter Plaza NW, Washington, DC 20006.

Agenda: The Commission will interview 30 National Finalists for the selection of the new class of White House Fellows.

Authority: Executive Orders 11183 and 14109

Office of Personnel Management.
Kayyonne Marston,
Federal Register Liaison.

[FR Doc. 2024-11636 Filed 5-24-24; 8:45 am]

BILLING CODE 6325-69-P